DEPARTMENT OF THE INTERIOR

National Park Service

[NPS-IMR-AMCH-NPS0036797; ACCT Number: PPIMAMCH00//PPMPSAS1Z.Y00000]

Amache National Historic Site

AGENCY: National Park Service, Interior.

ACTION: Notice.

SUMMARY: As authorized by the Amache National Historic Site Act, the National Park Service announces that the Secretary of the Interior has established, in the State of Colorado, the Amache National Historic Site as a unit of the National Park System.

FOR FURTHER INFORMATION CONTACT: Brian Carlstrom, Deputy Regional Director, NPS, Intermountain Region at 720-616-9266.

ADDRESSES: A color version and more detailed area maps depicting the boundary are available here: https://www.nps.gov/amch/planyourvisit/maps.htm.

SUPPLEMENTARY INFORMATION: On March 18, 2022, President Biden signed into law Public Law 117-106, which provides for the designation of the Granada Relocation Center in Prowers County, Colorado, as Amache National Historic Site. Amache was one of 10 incarceration camps established by the War Relocation Authority during World War II (WWII) to unjustly incarcerate Japanese Americans who were forcibly removed from their communities on the West Coast under the provisions of Executive Order 9066.

The statute provides that Amache National Historic Site shall be established as a unit of the National Park System once the Secretary determines that a sufficient quantity of land, or interests in land, has been acquired to constitute a manageable park unit, and that the Secretary must publish notice of such establishment in the Federal Register.

The National Park Service has acquired 410 acres within the proposed historic site boundary, encompassing the core of the former built-up area of Amache. On February 9, 2024, the Secretary of the Interior signed a Decision Memorandum determining that a sufficient quantity of land, or interests in land, had been acquired to constitute a manageable park unit. With the signing of this Decision Memorandum by the Secretary and the publication of this notice in the Federal Register, Amache National Historic Site is established.

Charles F. Sams III,
Director, National Park Service.

[FR Doc. 2024-03250 Filed 2-15-24; 8:45 am]

BILLING CODE P